DEPARTMENT OF HEALTH AND HUMAN SERVICES

Centers for Disease Control and Prevention

[Program Announcement 02184]

Monitoring Trends in Prevalence of Sexually Transmitted Disease (STD), Tuberculosis (TB), and Human Immunodeficiency Virus (HIV) Risk Behaviors Among Men Who Have Sex With Men (MSM): Notice of Availability of Funds; Amendment

A notice announcing the availability of Fiscal Year (FY) 2002 funds for a competitive cooperative agreement for Monitoring Trends in Prevalence of STD, TB, and HIV Risk Behaviors among (MSM) in facilities providing health services to this population was published on July 9, 2002, Volume 67, Number 131, pages 45520-45523. The notice is amended as follows: On page 45521, column 3, Paragraph “F. Content”, Letter of Intent (LOI), and on page 45522, column 1, Paragraph “G. Submission and Deadline”, the following change is made: An (LOI) is not required for this program.

Dated: July 11, 2002.
Sandra R. Manning,
Director, Procurement and Grants Office, Centers for Disease Control and Prevention.

[FR Doc. 02-18108 Filed 7-17-02; 8:45 am]

BILLING CODE 4163-18-P